DEPARTMENT OF TRANSPORTATION

Federal Motor Carrier Safety Administration

[Docket No. FMCSA-2004-19477]

Qualification of Drivers; Exemption Applications; Vision

AGENCY: Federal Motor Carrier Safety Administration (FMCSA), DOT.

ACTION: Notice of applications for exemption from the vision standard; request for comments.

SUMMARY: This notice publishes the FMCSA's receipt of applications from 29 individuals for an exemption from the vision requirement in the Federal Motor Carrier Safety Regulations. If granted, the exemptions will enable these individuals to qualify as drivers of commercial motor vehicles (CMVs) in interstate commerce without meeting the vision standard prescribed in 49 CFR 391.41(b)(10).

DATES: Comments must be received on or before December 8, 2004.

ADDRESSES: You may submit comments identified by any of the following methods. Please identify your comments by the DOT DMS Docket Number FMCSA-2004-19477.

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590-0001.

• Hand Delivery: Room PL-401 on the plaza level of the Nassif Building, 400 Seventh Street, SW., Washington, DC, between 9 a.m. and 5 p.m., Monday through Friday, except Federal Holidays.

• Federal eRulemaking Portal: Go to http://www.regulations.gov. Follow the on-line instructions for submitting comments.

Instructions: All submissions must include the agency name and docket number for this notice. For detailed instructions on submitting comments and additional information on the rulemaking process, see the Public Participation heading of the Supplementary Information section of this document. Note that all comments received will be posted without change to http://dms.dot.gov, including any personal information provided. Please see the Privacy Act heading under Regulatory Notices.

Docket: For access to the docket to read background documents or comments received, go to http://dms.dot.gov at any time or to Room PL-401 on the plaza level of the Nassif Building, 400 Seventh Street, SW., Washington, DC, between 9 a.m. and 5 p.m., Monday through Friday, except Federal Holidays.

FOR FURTHER INFORMATION CONTACT: Maggi Gunnels, Office of Bus and Truck Standards and Operations, (202) 366-2987, FMCSA, Department of Transportation, 400 Seventh Street, SW., Washington, DC 20590-0001. Office hours are from 8 a.m. to 5 p.m., e.t., Monday through Friday, except Federal holidays.

SUPPLEMENTARY INFORMATION: Public Participation: The DMS is available 24 hours each day, 365 days each year. You can get electronic submission and retrieval help guidelines under the “help” section of the DMS Web site. If you want us to notify you that we received your comments, please include a self-addressed, stamped envelope or postcard or print the acknowledgement page that appears after submitting comments on-line.

Privacy Act: Anyone is able to search the electronic form of all comments received into any of our dockets by the name of the individual submitting the comment (or signing the comment, if submitted on behalf of an association, business, labor union, etc.). You may review the Department of Transportation's complete Privacy Act Statement in the Federal Register published on April 11, 2000 (Volume 65, Number 70; Pages 19477-78) or you may visit http://dms.dot.gov.

Background

Under 49 U.S.C. 31315 and 31136(e), the FMCSA may grant an exemption for a 2-year period if it finds “such exemption would likely achieve a level of safety that is equivalent to, or greater than, the level that would be achieved absent such exemption.” The statute also allows the agency to renew exemptions at the end of the 2-year period. The 29 individuals listed in this notice have recently requested an exemption from the vision requirement in 49 CFR 391.41(b)(10), which applies to drivers of CMVs in interstate commerce. Accordingly, the agency will evaluate the qualifications of each applicant to determine whether granting the exemption will achieve the required level of safety mandated by the statute.

Qualifications of Applicants

1. Leonida R. Batista

Mr. Batista, age 53, has decreased vision in his left eye due to an injury he sustained 40 years ago. His best-corrected visual acuity in the right eye is 20/20 and in the left, hand motion. Following an examination in 2004, his ophthalmologist certified, “It is my medical opinion that Mr. Batista has sufficient vision to perform the driving tasks required to operate a commercial vehicle.” Mr. Batista reported that he has driven straight trucks for 2 years, accumulating 50,000 miles, and tractor-trailer combinations for 29 years, accumulating 1.0 million miles. He holds a Class AM commercial driver's license (CDL) from New York. His driving record for the last 3 years shows no crashes or convictions for moving violations in a CMV.

2. Johnny Becerra

Mr. Becerra, 36, has amblyopia in his left eye. The best-corrected visual acuity in his right eye is 20/20 and in the left, 20/200. His optometrist examined him in 2004 and stated, “In my professional opinion, Mr. Johnny Becerra has sufficient vision to perform the tasks in order to operate a commercial vehicle.” Mr. Becerra submitted that he has driven straight trucks for 5 years, accumulating 390,000 miles. He holds a Class A CDL from Texas. His driving record for the last 3 years shows no crashes or convictions for moving violations in a CMV.

3. Larry W. Burnett

Mr. Burnett, 44, has amblyopia in his left eye. The best-corrected visual acuity in his right eye is 20/20 and in the left, 20/200. His optometrist examined him in 2004 and stated, “In my opinion, Mr. Burnett has sufficient vision to perform the driving tasks required to operate a commercial vehicle.” Mr. Burnett reported that he has driven straight trucks for 11 years, accumulating 418,000 miles, and tractor-trailer combinations for 6 years, accumulating 600,000 miles. He holds a Class A CDL from Colorado. His driving record for the last 3 years shows no crashes or convictions for moving violations in a CMV.

4. Ross E. Burroughs

Mr. Burroughs, 41, has a congenital visual field defect in his right eye. The best-corrected visual acuity in his right eye is 20/25 and in the left, 20/30. His field of vision in the horizontal meridian in the right eye is 60° and in the left, 100°. Following an examination in 2004, his ophthalmologist stated, In my medical opinion, patient has sufficient vision to perform driving tasks and to drive a truck as he has been doing his entire life.” Mr. Burroughs submitted that he has driven tractor-trailer combinations for 19 years, accumulating 1.2 million miles. He holds a Class A CDL from New Jersey. His driving record for the last 3 years shows no crashes or convictions for moving violations in a CMV.

5. Roger C. Carson

Mr. Carson, 47, is blind in his left eye due to an accident in 1982. The visual acuity in his right eye is 20/20. Following an examination in 2004, his optometrist certified, “In my opinion, the patient has sufficient vision to operate a commercial vehicle.” Mr. Carson reported that he has driven straight trucks for 22 years, accumulating 336,000 miles. He holds a chauffeur's license from Indiana. His driving record for the last 3 years shows no crashes or convictions for moving violations in a CMV.

6. Lester W. Carter

Mr. Carter, 42, has amblyopia in his right eye. His best-corrected visual acuity in the right eye is 20/60 and in the left, 20/15. Following an examination in 2004, his optometrist certified, “In my opinion Mr. Carter has sufficient vision to drive a commercial vehicle of the type he has been driving the past 8 years, using glasses to correct his vision.” Mr. Carter reported that he has driven straight trucks for 4 years, accumulating 52,000 miles, and tractor-trailer combinations for 14 years, accumulating 1.8 million miles. He holds a Class A CDL from California. His driving record for the last 3 years shows no crashes or convictions for moving violations in a CMV.

7. Larry Chinn

Mr. Chinn, 54, has a macular scar in his left eye due to trauma at age 19. His best-corrected visual acuity in the right eye is 20/20 and in the left, 20/80. Following an examination in 2004, his optometrist certified, “In my medical opinion, Mr. Chinn is visually safe to operate a commercial vehicle.” Mr. Chinn reported that he has driven straight trucks and tractor-trailer combinations for 25 years, accumulating 2.1 million miles in each. He holds a Class ABCD CDL from Wisconsin. His driving record for the last 3 years shows no crashes or convictions for moving violations in a CMV.

8. Christopher L. DePuy

Mr. DePuy, 30, has amblyopia in his right eye. His best-corrected visual acuity in the right eye is 20/80 and in the left, 20/20. Following an examination in 2004, his optometrist certified, “I feel he has sufficient vision to perform the driving tasks required to operate a commercial vehicle.” Mr. DePuy reported that he has driven straight trucks for 4 years, accumulating 160,000 miles, and tractor-trailer combinations for 6 years, accumulating 390,000 miles. He holds a Class A CDL from Ohio. His driving record for the last 3 years shows no crashes and one conviction for a moving violation—speeding—in a CMV. He exceeded the speed limit by 14 mph.

9. John B. Ethridge

Mr. Ethridge, 43, has amblyopia in his left eye. His best-corrected visual acuity in the right eye is 20/25 and in the left, 20/150. Following an examination in 2004, his ophthalmologist certified, “It is my medical opinion that this patient has sufficient vision to perform the driving tasks required to operate a commercial vehicle.” Mr. Ethridge reported that he has driven tractor-trailer combinations for 19 years, accumulating 1.9 million miles. He holds a Class A CDL from Georgia. His driving record for the last 3 years shows no crashes or convictions for moving violations in a CMV.

10. Larry J. Folkerts

Mr. Folkerts, 37, has amblyopia in his left eye. His best-corrected visual acuity in the right eye is 20/20, and in the left, 20/400. Following an examination in 2004, his optometrist certified, “In my medical opinion, Larry has sufficient vision to perform the driving tasks required to operate a commercial vehicle.” Mr. Folkerts reported that he has driven straight trucks for 13 years, accumulating 325,000 miles. He holds a Class B CDL from Iowa. His driving record for the last 3 years shows no crashes or convictions for moving violations in a CMV.

11. Randolph D. Hall

Mr. Hall, 64, has a macular scar in his right eye due to an infection as a child. The best-corrected visual acuity in his right eye is 20/800 and in the left, 20/20. His optometrist examined him in 2004 and stated, “In my medical opinion, Mr. Hall has sufficient vision to perform the driving tasks required to operate a commercial vehicle.” Mr. Hall submitted that he has driven tractor-trailer combinations for 40 years, accumulating 3.0 million miles. He holds a Class A CDL from Florida. His driving record for the last 3 years shows no crashes and one conviction for a moving violation—“failure to obey traffic signal”—in a CMV.

12. Richard T. Hatchel

Mr. Hatchel, 56, lost his left eye as a child due to an injury. The visual acuity in his right eye is 20/20. His ophthalmologist examined him in 2004 and certified, “It is my medical opinion that the right eye is certainly good enough for Mr. Hatchel to perform the tasks required for operating a commercial vehicle.” Mr. Hatchel reported that he has driven straight trucks for 13 years, accumulating 845,000 miles, and tractor-trailer combinations for 16 years, accumulating 1.4 million miles. He holds a Class A CDL from North Carolina. His driving record for the last 3 years shows no crashes or convictions for moving violations in a CMV.

13. Paul W. Hunter

Mr. Hunter, 44, has a macular scar in his right eye due to an injury in 1991. The best-corrected visual acuity in his right eye is 20/200 and in the left, 20/20. Following an examination in 2004 his optometrist stated, “In my opinion, patient has more than enough vision to safely perform driving tasks required to operate a commercial vehicle.” Mr. Hunter reported that he has driven tractor-trailer combinations for 10 years, accumulating 1.3 million miles. He holds a Class AM CDL from Alabama. His driving record for the last 3 years shows no crashes and two convictions for speeding in a CMV. He exceeded the speed limit by 18 mph in one instance and 12 mph in another.

14. Harold D. Jones

Mr. Jones, 38, has amblyopia in his left eye. The best-corrected visual acuity in his right eye is 20/20 and in the left, 20/400. His optometrist examined him in 2004 and certified, “In my opinion, this patient has sufficient vision to operate a commercial vehicle.” Mr. Jones submitted that he has driven tractor-trailer combinations for 6 years, accumulating 600,000 miles. He holds a Class A CDL from Kentucky. His driving record for the last 3 years shows no crashes or convictions for moving violations in a CMV.

15. Lester G. Kelley II

Mr. Kelley, 44, has a macular scar in his left eye due to trauma in 1982. The best-corrected visual acuity in his right eye is 20/20 and in the left, light perception. His ophthalmologist examined him in 2004 and certified, “I believe the patient should be able to adequately operate a commercial vehicle and drive without difficulty secondary to having good vision in only one eye.” Mr. Kelley reported that he has driven tractor-trailer combinations for 17 years, accumulating 1.7 million miles. He holds a Class A CDL from Ohio. His driving record for the last 3 years shows no crashes and one conviction for a moving violation—speeding—in a CMV. He exceeded the speed limit by 9 mph.

16. Robert L. Lafollette

Mr. Lafollette, 60, has amblyopia in his left eye. The best-corrected visual acuity in his right eye is 20/20 and in the left, 20/300. His optometrist examined him in 2004 and certified, “I believe that this condition poses no hindrance to Mr. Lafollette's ability to operate a commercial vehicle.” Mr. Lafollette reported that he has driven straight trucks for 35 years, accumulating 420,000 miles, and tractor-trailer combinations for 25 years, accumulating 250,000 miles. He holds a Class A CDL from Virginia. His driving record for the last 3 years shows no crashes or convictions for moving violations in a CMV.

17. Ray P. Lenz

Mr. Lenz, 59, sustained an injury to his left eye at age 5. His visual acuity in the right eye is 20/20 and in the left, light perception. Following an examination in 2004, his optometrist certified, “I feel that Ray Lenz has sufficient vision to operate a commercial vehicle.” Mr. Lenz reported that he has driven straight trucks for 41 years, accumulating 717,000 miles, and tractor-trailer combinations for 19 years, accumulating 950,000 miles. He holds a Class A CDL from Iowa. His driving record for the last 3 years shows no crashes or convictions for moving violations in a CMV.

18. John M. Lonergan

Mr. Lonergan, 60, has amblyopia in his left eye. His best-corrected visual acuity in the right eye is 20/20 and in the left, 20/200. Following an examination in 2004, his ophthalmologist certified, “In my medical opinion the patient has sufficient vision to perform the driving tasks required to operate a commercial vehicle.” Mr. Lonergan reported that he has driven tractor-trailer combinations for 39 years, accumulating 3.1 million miles. He holds a Class A CDL from Illinois. His driving record for the last 3 years shows one crash and no convictions for moving violations in a CMV. According to the police report, Mr. Lonergan, driving a tractor-trailer combination, was attempting to make a right turn when another driver passing on the right struck his vehicle. The other driver was charged with failing to yield the right of way. Mr. Lonergan was not cited.

19. Michael B. McClure

Mr. McClure, 54, has a retinal detachment in his left eye due to an injury 33 years ago. His best-corrected visual acuity in the right eye is 20/15 and in the left, 20/200. Following an examination in 2004, his optometrist certified, “In my medical opinion he has sufficient vision to operate a commercial vehicle.” Mr. McClure submitted that he has driven tractor-trailer combinations for 23 years, accumulating 1.7 million miles. He holds a Class A CDL from California. His driving record for the last 3 years shows one crash and one conviction for a moving violation in a CMV. The moving violation was exceeding the speed limit by 10 mph. According to the police report for the crash, the driver of the other vehicle involved failed to stop for a red traffic light and collided with Mr. McClure's vehicle in the intersection. The other driver was charged with failing to stop for a red traffic light. Mr. McClure was not cited.

20. Lamont S. McCord

Mr. McCord, 58, has a macular scar in his left eye due to injury at age 12. His best-corrected visual acuity in the right eye is 20/20 and in the left, hand motion. Following an examination in 2004, his ophthalmologist certified, “In my medical opinion, Lamont McCord has ample vision to operate a commercial vehicle.” Mr. McCord reported that he has driven straight trucks for 15 years, accumulating 86,000 miles, and tractor-trailer combinations for 24 years, accumulating 902,000 miles. He holds a Class CA CDL from Michigan. His driving record for the last 3 years shows no crashes or convictions for moving violations in a CMV.

21. Francis M. McMullin

Mr. McMullin, 38, has amblyopia in his right eye. The best-corrected visual acuity in his right eye is 20/400 and in the left, 20/20. His optometrist examined him in 2004 and certified, “The patient has sufficient vision to perform all driving tasks needed to operate a commercial vehicle.” Mr. McMullin submitted that he has driven straight trucks for 21 years, accumulating 315,000 miles, and tractor-trailer combinations for 12 years, accumulating 480,000 miles. He holds a Class AM CDL from Pennsylvania. His driving record for the last 3 years shows no crashes or convictions for moving violations in a CMV.

22. Joe L. Meredith, Jr.

Mr. Meredith, 37, lost vision in his left eye as a child due to an ocular tumor. His visual acuity in the right eye is 20/20. Following an examination in 2004, his ophthalmologist noted, “In my opinion this patient has sufficient field of vision and visual acuity to drive a commercial motor vehicle over the road.” Mr. Meredith reported that he has driven tractor-trailer combinations for 5 years, accumulating 600,000 miles. He holds a Class A CDL from Virginia. His driving record for the last 3 years shows one crash and two convictions for moving violations—both “failure to obey a traffic sign”—in a CMV. According to the police report for the crash, Mr. Meredith's vehicle side-swiped another vehicle that was entering the highway from the on ramp. The other driver was charged with failing to yield the right of way. Mr. Meredith was not cited.

23. Norman Mullins

Mr. Mullins, 51, has nerve damage in his right eye due to an accident in 1980. His visual acuity in the right eye is 20/80 and in the left, 20/20. Following an examination in 2004, his optometrist certified, “In my medical opinion, Norman Mullins has sufficient vision to operate a commercial vehicle.” Mr. Mullins reported that he has driven straight trucks for 33 years, accumulating 660,000 miles, and tractor-trailer combinations for 28 years, accumulating 2.7 million miles. He holds a Class A CDL from Ohio. His driving record for the last 3 years shows one crash and no convictions for moving violations in a CMV. According to the police report for the crash, the other vehicle entered the roadway from a controlled intersection and was rear-ended by Mr. Mullins' vehicle. The other driver was charged with failing to yield the right of way. Mr. Mullins was not cited.

24. Harold W. Mumford

Mr. Mumford, 60, lost his left eye due to an injury in 1971. The visual acuity in his right eye is 20/20. Following an examination in 2004, his optometrist stated, “In my opinion, Harold has sufficient vision to perform the driving tasks required to operate a commercial vehicle.” Mr. Mumford submitted that he has driven straight trucks for 4 years, accumulating 400,000 miles. He holds a Class C driver's license from Kansas. His driving record for the last 3 years shows no crashes or convictions for moving violations in a CMV.

25. Charles R. O'Connell

Mr. O'Connell, 60, underwent surgery for a tumor in his left eye in 1977. The best-corrected visual acuity in his right eye is 20/25. Following an examination in 2004, his ophthalmologist certified, “In my opinion he has more than sufficient vision to perform and operate a commercial vehicle.” Mr. O'Connell reported that he has driven straight trucks and tractor-trailer combinations for 42 years, accumulating 1.4 million miles in the former and 210,000 miles in the latter. He holds a Class A CDL from Massachusetts. His driving record for the last 3 years shows no crashes or convictions for moving violations in a CMV.

26. Dennis R. O'Dell, Jr.

Mr. O'Dell, 38, has amblyopia in his right eye. The best-corrected visual acuity in his right eye is 20/80 and in the left, 20/30. His optometrist examined him in 2004 and certified, “My opinion, due to the fact that he has adjusted over time to use monocular clues for his depth of perception, is that I see no reason why he couldn't perform his tasks as a commercial driver.” Mr. O'Dell reported that he has driven tractor-trailer combinations for 12 years, accumulating 1.0 million miles. He holds a Class A CDL from New York. His driving record for the last 3 years shows one crash and no convictions for moving violations in a CMV. According to the police report, Mr. O'Dell's truck was struck by a driver who was entering the highway from an on ramp. The report stated the other driver failed to yield the right of way and contributed to the crash by failing to control speed. Mr. O'Dell was not cited.

27. Virgil A. Potts

Mr. Potts, 49, has amblyopia in his left eye. The best-corrected visual acuity in his right eye is 20/20 and in the left, 20/70. His ophthalmologist examined him in 2004 and stated, “I certify that in my medical opinion, Virgil Potts has sufficient vision to perform the driving tasks required to operate a commercial vehicle.” Mr. Potts reported that he has driven straight trucks and tractor-trailer combinations for 20 years, accumulating 1.0 million miles in the former and 1.6 million miles in the latter. He holds a Class A CDL from Colorado. His driving record for the last 3 years shows no crashes or convictions for moving violations in a CMV.

28. Clarence H. Redding

Mr. Redding, 65, experienced a central retinal vein occlusion in his right eye in 2000. His visual acuity in the right eye is 20/400 and in the left, 20/30. Following an examination in 2004, his optometrist certified, “It is my medical opinion that Mr. Redding has sufficient vision to perform the driving tasks required to operate a commercial vehicle.” Mr. Redding reported that he has driven straight trucks for 3 years, accumulating 79,000 miles, and tractor-trailer combinations for 44 years, accumulating 6.2 million miles. He holds a Class A CDL from Utah. His driving record for the last 3 years shows no crashes or convictions for moving violations in a CMV.

29. David J. Triplett

Mr. Triplett, 42, has amblyopia in his right eye. His best-corrected visual acuity in the right eye is 20/40 and in the left, 20/20. Following an examination in 2004, his optometrist certified, “It is my opinion that Mr. Triplett has sufficient vision to perform any driving tasks required to operate a commercial vehicle.” Mr. Triplett reported that he has driven straight trucks for 16 years, accumulating 640,000 miles. He holds a Class A CDL from Kentucky. His driving record for the last 3 years shows no crashes or convictions for moving violations in a CMV.

Request for Comments

In accordance with 49 U.S.C. 31315 and 31136(e), the FMCSA requests public comment from all interested persons on the exemption petitions described in this notice. We will consider all comments received before the close of business on the closing date indicated earlier in the notice.

Issued on: November 3, 2004.
Rose A. McMurray,
Associate Administrator, Policy and Program Development.

[FR Doc. 04-24867 Filed 11-5-04; 8:45 am]

BILLING CODE 4910-EX-P